NATIONAL ENDOWMENT FOR THE HUMANITIES

Committee Management; Notice of Renewal

The Chairman of the National Endowment for the Humanities has determined that the renewal of the Humanities advisory panel is necessary and in the public interest in connection with the performance of duties imposed upon the Chairman, National Endowment for the Humanities (NEH), by (Pub. L. 92-463) and section 10(a)(4) of the National Foundation on the Arts and the Humanities Act of 1965, as amended (20 U.S.C. 959(a)(4)). This determination follows consultation with the Committee Management Secretariat, General Services Administration.

Name of Committee: Humanities Panel.

Purpose and Objective: For the purpose of advising the National Council on the Humanities and the Chairman of the NEH concerning policies, programs, and procedures of the Endowment. The Panel furthermore makes recommendations on applications for financial support presented to the National Endowment for the Humanities.

Balanced Membership Plans: In order to ensure a thorough and expert review of proposals which require an in-depth knowledge on the part of panelists, the Endowment is concerned in the selection of panel members about their scholarly and intellectual qualities, and that panelists should represent a wide and balanced perspective which can best be achieved by the appointment of highly qualified individuals representing different segments of our society. By statute this panel is required to have broad geographic and culturally diverse representation

Duration: Continuing.

Responsible NEH Official: Mr. Michael P. McDonald, General Counsel, National Endowment for the Humanities, 1100 Pennsylvania Avenue, NW, Room 529, Washington, DC 20506, telephone (202) 606-8322.

Dated: December 20, 2005.
Michael P. McDonald,
Committee Management Officer.

[FR Doc. E5-8012 Filed 12-28-05; 8:45 am]

BILLING CODE 7536-01-P